DEPARTMENT OF HOMELAND SECURITY

Federal Emergency Management Agency

[Docket ID: FEMA-2022-0043; OMB No. 1660-0107]

Agency Information Collection Activities: Submission for OMB Review, Comment Request; Public Assistance Customer Satisfaction Surveys

AGENCY: Federal Emergency Management Agency, Department of Homeland Security.

ACTION: 30-Day notice of revisions and request for comments.

SUMMARY: The Federal Emergency Management Agency (FEMA) will submit the information collection abstracted below to the Office of Management and Budget for review and clearance in accordance with the requirements of the Paperwork Reduction Act of 1995. The submission will describe the nature of the information collection, the categories of the respondents, the estimated burden (i.e., the time, effort and resources used by respondents to respond) and cost, and the actual data collection instruments FEMA will use.

DATES: Comments must be submitted on or before March 31, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C St. SW, Washington, DC 20472, email address: FEMA-Information-Collections-Management@fema.dhs.gov or Jason Salazar, Program Analyst, Recovery Directorate, Jason.Salazar@FEMA.dhs.gov, 940.268.9245.

SUPPLEMENTARY INFORMATION: This collection is in accordance with E.O. 12862 and E.O. 13571 requiring all Federal agencies to survey customers to determine the kind and quality of services they want and their level of satisfaction with existing services. The Government Performance and Results Act of 1993 (GPRA) requires Federal agencies to set missions and goals and to measure agency performance against them. See Public Law 103-62, 107 Stat 285 (1993). The GPRA Modernization Act of 2010 requires quarterly performance assessments of government programs for the purposes of assessing agency performance and improvement. See Public Law 111-352, 124 Stat 3875 (2011). FEMA fulfills these requirements by collecting customer satisfaction program information through surveys of States, Local and Tribal governments, and eligible non-profit organizations.

This proposed information collection previously published in the Federal Register on December 9, 2022, at 87 FR 75643 with a 60-day public comment period. One public comment was received with multiple questions within it. FEMA has provided detailed responses to these questions in our Supporting Statement A. The purpose of this notice is to notify the public that FEMA will submit the information collection abstracted below to the Office of Management and Budget for review and clearance.

Collection of Information

Title: FEMA Public Assistance Program Customer Satisfaction Survey.

Type of Information Collection: Revision of a currently approved information collection.

OMB Number: 1660-0107.

FEMA Forms: FEMA Form FF-104-FY-21-155 (formerly 519-0-32), Public Assistance Initial Customer Satisfaction Survey (Telephone); FEMA Form FF-104-FY-21-156 (formerly 519-0-33), Public Assistance Initial Customer Satisfaction Survey (internet); FEMA Form FF-104-FY-21-157 (formerly 519-0-34), Public Assistance Assessment Customer Satisfaction Survey (Telephone); FEMA Form FF-104-FY-21-158 (formerly 519-0-35), Public Assistance Assessment Customer Satisfaction Survey (internet); FEMA Manual FM-104-FY-22-102, Customer Survey and Analysis Qualitative Research Protocol.

Abstract: Federal agencies are required to survey their customers to determine the kind and quality of services customers want and their level of satisfaction with those services. The FEMA Public Assistance Customer Satisfaction Surveys are used to monitor program performance and assess service delivery. Survey results are used to ensure the Agency is meeting the needs of FEMA applicants.

Affected Public: Not-for-profit institutions; State, Local or Tribal Government.

Estimated Number of Respondents: 3,885.

Estimated Number of Responses: 3,885.

Estimated Total Annual Burden Hours: 1,839.

Estimated Total Annual Respondent Cost: $86,459.

Estimated Respondents' Operation and Maintenance Costs: $0.

Estimated Respondents' Capital and Start-Up Costs: $13,500.

Estimated Total Annual Cost to the Federal Government: $897,467.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-04116 Filed 2-28-23; 8:45 am]

BILLING CODE 9111-24-P